DEPARTMENT OF AGRICULTURE

Request for Nominations of Members for the National Agricultural Research, Extension, Education, and Economics Advisory Board

AGENCY: Agricultural Research Service, USDA.

ACTION: Solicitation for membership.

SUMMARY: The notice announced the USDA's request for membership on the National Agricultural Research, Extension, Education, and Economics Advisory Board. The notice was published in the Federal Register on May 2, 2013.

FOR FURTHER INFORMATION CONTACT: David Kelly, 202-720-4421.

Correction

In the Federal Register of May 2, 2013 in FR Doc. 2013-10392, on pages 25691-25692 in the date section, correct to read as follows:

DATES: All nomination materials should be mailed in a single, complete package and postmarked by August 30, 2013.

Yvette Anderson,
Federal Register Liaison Officer for ARS, ERS, and NASS.

[FR Doc. 2013-17649 Filed 7-22-13; 8:45 am]

BILLING CODE P